POSTAL SERVICE

Temporary Emergency Committee of the Board of Governors; Sunshine Act Meeting

FEDERAL REGISTER CITATION OF PREVIOUS ANNOUNCEMENT: 39 FR 45149.

PREVIOUSLY ANNOUNCED TIME AND DATE OF THE MEETING: Thursday, September 13, 2018, at 1:00 p.m.

CHANGES IN THE MEETING: A portion of this meeting will be held as an open session at 8:00 a.m. on Thursday, September 13, 2018. Agenda items include:

1. Administrative Items

The closed session will be held promptly afterwards.

CONTACT PERSON FOR MORE INFORMATION: Michael J. Elston, Acting Secretary of the Board, U.S. Postal Service, 475 L'Enfant Plaza, SW, Washington, DC 20260-1000. Telephone: (202) 268-4800.

Michael J. Elston,
Acting Secretary.

[FR Doc. 2018-20066 Filed 9-11-18; 4:15 pm]

BILLING CODE 7710-12-P